DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing an update to the identifying information of one vessel currently included on the Specially Designated Nationals and Blocked Persons List. The vessel remains the blocked property of a person who has an interest under the relevant sanctions authority listed below.

DATES: See SUPPLEMENTARY INFORMATION section for applicable date(s).

FOR FURTHER INFORMATION CONTACT: OFAC: Andrea Gacki, Director, tel.: 202-622-2490; Associate Director for Global Targeting, tel.: 202-622-2420; Assistant Director for Sanctions Compliance & Evaluation, tel.: 202-622-2490; Assistant Director for Licensing, tel.: 202-622-2480; or Assistant Director for Regulatory Affairs, tel. 202-622-4855.

SUPPLEMENTARY INFORMATION:

Electronic Availability

The Specially Designated Nationals and Blocked Persons List and additional information concerning OFAC sanctions programs are available on OFAC's website (www.treasury.gov/ofac).

Notice of OFAC Action

On September 15, 2022, OFAC updated the Specially Designated Nationals and Blocked Persons List entry for the following vessel, in which a blocked person has an interest and continues to be blocked pursuant to the prohibitions in Executive Order 13726.

Vessel

1. BONU 5 Malta flag; Vessel Registration Identification 15411 (Malta) (vessel) [LIBYA3] (Linked To: ANDREA MARTINA LIMITED).

Dated: September 15, 2022.
Andrea M. Gacki,
Director, Office of Foreign Assets Control, U.S. Department of the Treasury.

[FR Doc. 2022-20348 Filed 9-27-22; 8:45 am]

BILLING CODE 4810-AL-P